DEPARTMENT OF AGRICULTURE

Grain Inspection, Packers and Stockyards Administration

[02-02-S]

Designation for the Alabama, California, Kankakee (IL), Springfield (IL), and Washington Areas

AGENCY: Grain Inspection, Packers and Stockyards Administration, USDA.

ACTION: Notice.

SUMMARY: Grain Inspection, Packers and Stockyards Administration (GIPSA) announces designation of the following organizations to provide official services under the United States Grain Standards Act, as amended (Act):

Alabama Department of Agriculture and Industries (Alabama);

California Department of Food and Agriculture (California);

Kankakee Grain Inspection, Inc. (Kankakee);

Springfield Grain Inspection, Inc. (Springfield); and

Washington Department of Agriculture. (Washington).

EFFECTIVE DATES: January 1, 2003.

ADDRESSES: USDA, GIPSA, Janet M. Hart, Chief, Review Branch, Compliance Division, STOP 3604, Room 1647-S, 1400 Independence Avenue, SW., Washington, DC 20250-3604.

FOR FURTHER INFORMATION CONTACT: Janet M. Hart at 202-720-8525, e-mail Janet.M.Hart@usda.gov.

SUPPLEMENTARY INFORMATION: This action has been reviewed and determined not to be a rule or regulation as defined in Executive Order 12866 and Departmental Regulation 1512-1; therefore, the Executive Order and Departmental Regulation do not apply to this action.

In the June 3, 2002, Federal Register (67 FR 38249), GIPSA asked persons interested in providing official services in the geographic areas assigned to the official agencies named above to submit an application for designation. Applications were due by July 1, 2002.

Alabama, California, Kankakee, and Washington were the sole applicants for designation to provide official services in the entire area currently assigned to them, so GIPSA did not ask for additional comments on them. There were two applicants for the Springfield area: Springfield applied for all of the area currently assigned to them, and Keokuk Grain Inspection Service (Keokuk), a designated official agency, applied for Cass and Schuyler Counties. GIPSA asked for comments on the applicants for service in the September 3, 2002, Federal Register (67 FR 13599). Comments were due by October 1, 2002. GIPSA received no comments by the due date.

GIPSA evaluated all available information regarding the designation criteria in Section 7(f)(l)(A) of the Act and, according to Section 7(f)(l)(B), determined that Alabama, California, Kankakee, Springfield, and Washington are able to provide official services in the geographic areas specified in the June 3, 2002, Federal Register, for which they applied. Interested persons may obtain official services by calling the telephone numbers listed below.

Official agency | Headquarters location and telephone | Designation start—end
Alabama | Montgomery, AL, Additional Service Locations: Decatur, Mobile, AL, 334-415-2531 | 01/01/2003- 12/31/2005
California | Sacramento, CA, Additional Service Locations: Bell, Corcoran, Imperial, Stockton, West Sacramento, Williams, CA, 916-654-0743 | 01/01/2003- 12/31/2005
Kankakee | Essex, IL, Additional Service Location: Tiskilwa, IL, 815-365-2268 | 01/01/2003- 12/31/2005
Springfield | Springfield, IL, 217-522-5278 | 01/01/2003- 12/31/2005
Washington | Olympia, WA, Additional Service Locations: Colfax, Kalama, Pacso, Seattle, Spokane, Tacoma, Tumwater, Vancouver, WA, 360-902-1921 | 01/01/2003- 12/31/2005

Authority: Pub. L. 94-582, 90 Stat. 2867, as amended (7 U.S.C. 71 et seq.).

Dated: November 13, 2002.
Donna Reifschneider,
Administrator, Grain Inspection, Packers and Stockyards Administration.

[FR Doc. 02-29758 Filed 11-21-02; 8:45 am]

BILLING CODE 3410-EN-P